DEPARTMENT OF THE INTERIOR

National Park Service

[NPS-WASO-NAGPRA-NPS0034591; PPWOCRADN0-PCU00RP14.R50000]

Notice of Inventory Completion: New York University, College of Dentistry, New York, NY

AGENCY: National Park Service, Interior.

ACTION: Notice.

SUMMARY: In accordance with the Native American Graves Protection and Repatriation Act (NAGPRA), the New York University, College of Dentistry (NYU Dentistry) has completed an inventory of human remains and associated funerary objects and has determined that there is a cultural affiliation between the human remains and associated funerary objects and Indian Tribes or Native Hawaiian organizations in this notice. The human remains and associated funerary objects were removed from Los Angeles County, CA.

DATES: Repatriation of the human remains and associated funerary objects in this notice may occur on or after November 10, 2022.

ADDRESSES: Joshua Hayes Johnson, Department of Molecular Pathobiology, NYU Dentistry, 345 E 24th Street, New York, NY 10010, telephone (646) 341-1016, email jj65@nyu.edu.

SUPPLEMENTARY INFORMATION: This notice is published as part of the National Park Service's administrative responsibilities under NAGPRA. The determinations in this notice are the sole responsibility of NYU Dentistry. The National Park Service is not responsible for the determinations in this notice. Additional information on the determinations in this notice, including the results of consultation, can be found in the inventory or related records held by NYU Dentistry.

Description

At an unknown date, human remains representing, at minimum, eight individuals were removed from Santa Catalina Island in Los Angeles County, CA. One set of human remains (NYUCD #167) was removed by an unknown individual at an unknown date and subsequently was acquired by the Museum of the American Indian. A second set of human remains (NYUCD #364) was removed by an unknown individual at an unknown date, subsequently became part of the E.L. Hills collection, and in 1923, was donated by Mrs. Thea Heye to the Museum of the American Indian, Heye Foundation. A further six sets of human remains (NYUCD #70, 229, 403, 438, 452, and 475) were excavated in 1920 by Ralph Glidden as part of an archeological expedition sponsored by the Museum of the American Indian, Heye Foundation and the Field Museum of Natural History (NMAI Archives, Box OC 126, Folder 27). The human remains were catalogued into the Department of Physical Anthropology that same year. In 1956, the eight sets of human remains were transferred to Dr. Theodore Kazamiroff, a professor at the NYU College of Dentistry. No known individuals were identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, folkloric, geographical, historical, kinship, linguistic, and oral traditional.

Determinations

Pursuant to NAGPRA and its implementing regulations, and after consultation with the appropriate Indian Tribes and Native Hawaiian organizations, NYU Dentistry has determined that:

• The human remains described in this notice represent the physical remains of eight individuals of Native American ancestry.

• There is a relationship of shared group identity that can be reasonably traced between the human remains and the La Jolla Band of Luiseno Indians, California (previously listed as La Jolla Band of Luiseno Mission Indians of the La Jolla Reservation); Pala Band of Mission Indians (previously listed as Pala Band of Luiseno Mission Indians of the Pala Reservation, California); Pauma Band of Luiseno Mission Indians of the Pauma & Yuima Reservation, California; Pechanga Band of Indians (previously listed as Pechanga Band of Luiseno Mission Indians of the Pechanga Reservation, California); Rincon Band of Luiseno Mission Indians of Rincon Reservation, California; Santa Ynez Band of Chumash Mission Indians of the Santa Ynez Reservation, California; and the Soboba Band of Luiseno Indians, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 10, 2022. If competing requests for repatriation are received, NYU Dentistry must determine the most appropriate requestor prior to repatriation. Requests for joint repatriation of the human remains and associated funerary objects are considered a single request and not competing requests. NYU Dentistry is responsible for sending a copy of this notice to the Indian Tribes and Native Hawaiian organizations identified in this notice.

Authority: Native American Graves Protection and Repatriation Act, 25 U.S.C. 3003, and the implementing regulations, 43 CFR 10.9, § 10.10, and § 10.14.

Dated: September 27, 2022.
Melanie O'Brien,
Manager, National NAGPRA Program.

[FR Doc. 2022-22041 Filed 10-7-22; 8:45 am]

BILLING CODE 4312-52-P